DEPARTMENT OF COMMERCE

International Trade Administration

[C-570-063]

Cast Iron Soil Pipe Fittings From China: Amended Preliminary Determination of Countervailing Duty Investigation

AGENCY: Enforcement and Compliance, International Trade Administration, Department of Commerce.

SUMMARY: On December 19, 2017, the Department of Commerce (Commerce) published in the Federal Register the preliminary determination of the countervailing duty (CVD) investigation on cast iron soil pipe fittings from the People's Republic of China (China). Commerce is amending the preliminary determination of the investigation to correct a significant ministerial error.

DATES: Applicable December 19, 2017.

FOR FURTHER INFORMATION CONTACT: Dennis McClure or Jinny Ahn, AD/CVD Operations, Office VIII, Enforcement and Compliance, International Trade Administration, Department of Commerce, 14th Street and Constitution Avenue NW, Washington, DC 20230; telephone: (202) 482-5973 or (202) 482-0339, respectively.

SUPPLEMENTARY INFORMATION: On December 19, 2017, Commerce published in the Federal Register the preliminary determination of the CVD investigation of cast iron soil pipe fittings from China.¹ On December 18, 2017, Wor-Biz International Trading Co., Ltd. (Anhui) (Wor-Biz) timely alleged that Commerce made a significant ministerial error in the Preliminary Determination.

¹ See Cast Iron Soil Pipe Fittings from the People's Republic of China: Preliminary Affirmative Countervailing Duty Determination and Alignment of Final Determination With Final Antidumping Duty Determination, 82 FR 60178 (December 19, 2017) (Preliminary Determination) and accompanying Preliminary Decision Memorandum.

Significant Ministerial Error

A ministerial error, as defined in section 705(e) of the Tariff Act of 1930, as amended (the Act), includes “errors in addition, subtraction, or other arithmetic function, clerical errors resulting from inaccurate copying, duplication, or the like, and any other type of unintentional error which the administering authority considers ministerial.” ² With respect to preliminary determinations, 19 CFR 351.224(e) provides that Commerce “will analyze any comments received and, if appropriate, correct any significant ministerial error by amending the preliminary determination. . . .” A significant ministerial error is defined as an error, the correction of which, singly or in combination with other errors, would result in: (1) A change of at least five absolute percentage points in, but not less than 25 percent of, the countervailable subsidy rate calculated in the original (erroneous) preliminary determination; or (2) a difference between a countervailable subsidy rate of zero (or de minimis) and a countervailable subsidy rate of greater than de minimis, or vice versa.³

² See also 19 CFR 351.224(f).

³ See 19 CFR 351.224(g)(1) and (2).

Ministerial Error Allegation

Wor-Biz alleges that, in the Preliminary Determination, Commerce erred in calculating the benchmark prices for the Provision of Pig Iron for LTAR and the Provision of Ferrous Scrap for LTAR programs by unintentionally double-counting the distance for inland freight. We agree. Therefore, as explained in the Ministerial Error Memorandum issued concurrently with this notice,⁴ and pursuant to 19 CFR 351.224(e) and (g), Commerce is amending the Preliminary Determination to reflect the correction of a significant ministerial error made in the calculation of the subsidy rate for Wor-Biz.

⁴ See Memorandum “Countervailing Duty Investigation of Cast Iron Soil Pipe Fittings from China: Allegation of Significant Ministerial Error in the Preliminary Determination,” dated concurrently with this notice (Ministerial Error Memorandum). This memorandum is on file electronically via Enforcement and Compliance's Antidumping and Countervailing Duty Centralized Electronic Service System (ACCESS). ACCESS is available to registered users at http://access.trade.gov, and is available to all parties in the Central Records Unit, room B8024 of the main Department of Commerce building.

Amended Preliminary Determination

We are amending the preliminary subsidy rate for Wor-Biz pursuant to 19 CFR 351.224(e). In addition, because the preliminary “All-Others” Rate was based on the weighted average of the subsidy rates calculated for Wor-Biz and Shanxi Xuanshi Industrial Group Co., Ltd,⁵ we are also amending the “All-Others” rate to account for the change in Wor-Biz's subsidy rate. Further, because the adverse facts available rate assigned to the non-cooperative respondent Shijiazhuang Chengmei Import & Export Co., Ltd. was determined using, in part, the highest calculated program-specific rates determined for the cooperating respondents,⁶ we are also amending the adverse facts available rate to account for our correction of Wor-Biz's Provision of Pig Iron for LTAR and Provision of Ferrous Scrap for LTAR program rates.⁷ The revised subsidy rates are as follows:

⁵ See Preliminary Determination, 82 FR at 60179.

⁶ For further explanation, see Preliminary Determination and accompanying Preliminary Decision Memorandum at “Use of Facts Otherwise Available and Adverse Inferences.”

⁷ See Ministerial Error Memorandum for additional information on the revised adverse facts available rate.

⁸ This rate remains unchanged from the Preliminary Determination.

Company | Subsidy rate (percent)
Shanxi Xuanshi Industrial Group Co., Ltd | ⁸ 8.66
Wor-Biz International Trading Co., Ltd. (Anhui) | 7.37
All-Others | 8.12
Shijiazhuang Chengmei Import & Export Co., Ltd | 96.96

This amended preliminary determination is published in accordance with sections 705(e) and 777(i)(1) of the Act and 19 CFR 351.224(e) and (g).

Dated: January 12, 2018.
Gary Taverman,
Deputy Assistant Secretary for Antidumping and Countervailing Duty Operations, performing the non-exclusive functions and duties of the Assistant Secretary for Enforcement and Compliance.

[FR Doc. 2018-00924 Filed 1-18-18; 8:45 am]

BILLING CODE 3510-DS-P